INTERNATIONAL TRADE COMMISSION

[Investigation No. 337-TA-599]

In the Matter of Certain Lighting Control Devices Including Dimmer Switches and/or Switches and Parts Thereof; Notice of Commission Decision Not To Review Initial Determination Granting in Part Complainant's Motion To Amend the Amended Complaint and Notice of Investigation

AGENCY: U.S. International Trade Commission.

ACTION: Notice.

SUMMARY: Notice is hereby given that the U.S. International Trade Commission has determined not to review the presiding administrative law judge's (“ALJ”) initial determination (“ID”) (Order No. 8) granting in part and denying in part complainant's motion to amend the Amended Complaint.

FOR FURTHER INFORMATION CONTACT: Jonathan J. Engler, Esq., Office of the General Counsel, U.S. International Trade Commission, 500 E Street, SW., Washington, DC 20436, telephone (202) 205-3112. Copies of the ALJ's IDs and all other non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: On April 5, 2007, the Commission instituted this investigation, based on a complaint filed by Lutron Electronics Co., Inc. (“Lutron”) of Coopersburg, Pennsylvania. This is Lutron's second motion to amend the complaint; its first was filed prior to the Commission's determination to institute this investigation. The Amended Complaint alleges violations of section 337 in the importation into the United States, the sale for importation, and the sale within the United States after importation of certain lighting control devices including dimmer switches and/or switches and parts thereof by reason of infringement of claims 1, 36, 65, 83, 85, 89, 90, 94, 112, 114, 116, 118, 119, 123, 149, 178, 193, 195, 197, 199 and 200 of U.S. Patent No. 5,637,930 (“the ‘930 patent”); claims 44, 47, and 49 of U.S. Patent No. 5,248,919 (“the 919 patent”); claims 1-5, 8-10, 12 and 22 of U.S. Patent No. 5,982,103 (“ the 103 patent”); claims 151, 152, and 155-157 of U.S. Patent No. 5,905,442 (“the 442 patent”); and claims 1, 3 and 14 of U.S. Patent No. 5,736,965 (“the 965 patent”). The complaint further alleges that an industry in the United States exists as required by subsection (a)(2) of section 337. The complainant requested that the Commission issue a limited exclusion order and a cease and desist order. The complaint named two firms as respondents: Leviton Manufacturing Company, Inc. (“Leviton”) of Little Neck, New York, and Control4 Corporation (“Control4”) of Salt Lake City.

On June 26, 2007, Lutron sought to amend its Amended Complaint and corresponding Notice of Investigation to add certain claims, to withdraw certain claims, and to seek a general exclusion order.

On August 21, 2007, the ALJ issued Order No. 8, an ID, denying Lutron's motion to the extent that it sought to add claims 41, 43, 54, 58, 70, 72, 99, 101, 183, 185, 215, 216, 217 and 220 of the '930 patent, but granting the motion to the extent that it sought to (1) Withdraw claims 1, 85, 114, 123, and 195 of the '930 patent; (2) substitute claim 65 for claim 1 of the '930 patent as the representative claim applied to the domestic product for the patent; (3) substitute certain exhibits; (4) withdraw claims 3 and 4 of the '103 patent; (5) add claims 23, 24, and 27 of the '103 patent; and (6) add seek a general exclusion order.

The Commission has determined not to review the ID.

The authority for the Commission's determination is contained in section 337 of the Tariff Act of 1930, as amended (19 U.S.C. 1337), and in section 210.42 of the Commission's Rules of Practice and Procedure (19 CFR 210.42).

Issued: September 20, 2007.
By order of the Commission.
Marilyn R. Abbott,
Secretary to the Commission.

[FR Doc. E7-19068 Filed 9-26-07; 8:45 am]

BILLING CODE 7020-02-P